DEPARTMENT OF ENERGY

Federal Energy Regulatory Commission

Combined Notice Of Filings # 1

October 25, 2006.

Take notice that the Commission received the following electric rate filings.

Docket Numbers: ER05-1179-005.

Applicants: Berkshire Power Company, LLC.

Description: Berkshire Power Co LLC submits Amended and Restated RMR Agreement (FERC Rate Schedule 2) and Refund Report in compliance with Paragraph 31.

Filed Date: 10/20/2006.

Accession Number: 20061024-0077.

Comment Date: 5 p.m. Eastern Time on Monday, November 13, 2006.

Docket Numbers: ER06r-191-004.

Applicants: ISO New England Inc.; New England Participating Transmission Owners; Maine Electric Power Company.

Description: ISO New England Inc et al. submit Supplemental Modifications to Schedules 22 & 23 of the ISO OATT in compliance with the 4/14/06 Commission's Order.

Filed Date: 10/23/2006.

Accession Number: 20061024-0180.

Comment Date: 5 p.m. Eastern Time on Monday, November 13, 2006.

Docket Numbers: ER06-819-003.

Applicants: Consolidated Edison Energy Massachusetts. Inc.

Description: Consolidated Edison Energy Massachusetts, Inc submits a revised Reliability Agreement with ISO New England, Inc pursuant to FERC's 8/25/06 Order.

Filed Date: 10/23/2006.

Accession Number: 20061025-0070.

Comment Date: 5 p.m. Eastern Time on Monday, November 13, 2006.

Docket Numbers: ER06-1377-001.

Applicants: Rochester Gas and Electric Corporation.

Description: Rochester Gas and Electric Corp submits an amendment to its Interconnection Agreement for Robert E. Ginna Nuclear Station/responses pursuant to the Commission's 9/27/06 letter.

Filed Date: 10/23/2006.

Accession Number: 20061024-0170.

Comment Date: 5 p.m. Eastern Time on Monday, November 13, 2006.

Docket Numbers: ER07-51-000.

Applicants: Entergy Power, Inc.

Description: Entergy Power, Inc submits a long-term, cost-based capacity sale agreement with Merrill Lynch Commodities, Inc under Rate Schedule 8.

Filed Date: 10/20/2006.

Accession Number: 20061024-0072.

Comment Date: 5 p.m. Eastern Time on Monday, November 13, 2006.

Docket Numbers: ER07-52-000.

Applicants: MidAmerican Energy Company.

Description: MidAmerican Energy Company submits an Amended and Restated Electric Interconnection Agreement with the City of Ames, Iowa.

Filed Date: 10/19/2006.

Accession Number: 20061024-0073.

Comment Date: 5 p.m. Eastern Time on Thursday, November 09, 2006.

Docket Numbers: ER07-53-000.

Applicants: American Transmission Company LLC.

Description: American Transmission Co LLC submits an Amendment 1 to the Generation-Transmission Interconnection Agreement with Wisconsin Electric Power Company.

Filed Date: 10/20/2006.

Accession Number: 20061024-0075.

Comment Date: 5 p.m. Eastern Time on Monday, November 13, 2006.

Docket Numbers: ER07-54-000.

Applicants: Berkshire Power Company, LLC.

Description: Berkshire Power Company, LLC submits its limited revisions to the provisions of Rate Schedule 2 which was previously approved by FERC's 9/29/06 Order.

Filed Date: 10/20/2006.

Accession Number: 20061024-0074.

Comment Date: 5 p.m. Eastern Time on Monday, November 13, 2006.

Docket Numbers: ER07-55-000.

Applicants: Quark Power LLC.

Description: Quark Power LLC submits Notice of Cancellation of Market-Based Rate Tariff, Second Revised Rate Schedule FERC 1.

Filed Date: 10/20/2006.

Accession Number: 20061024-0070.

Comment Date: 5 p.m. Eastern Time on Monday, November 13, 2006.

Docket Numbers: ER07-56-000.

Applicants: Southern California Edison Company.

Description: Southern California Edison Co submits revised rate sheets to Service Agreement 2, Eucalyptus Avenue Wholesale Distribution Load Interconnection Facilities Agreement with the City of Moreno Valley.

Filed Date: 10/23/2006.

Accession Number: 20061024-0172.

Comment Date: 5 p.m. Eastern Time on Monday, November 13, 2006.

Docket Numbers: ER07-57-000.

Applicants: Southern California Edison Company.

Description: Southern California Edison Company submits revised rate sheets to Service Agreements 137 and 138, Cottonwood Avenue Wholesale Distribution Load Interconnection Facilities Agreement and the Service Agreement.

Filed Date: 10/23/2006.

Accession Number: 20061024-0174.

Comment Date: 5 p.m. Eastern Time on Monday, November 13, 2006.

Docket Numbers: ER07-58-000.

Applicants: Southern California Edison Company.

Description: Southern California Edison Co submits revised rate sheets to Service Agreement 8, Mountain View II Project Interconnection Facilities Agreement with Mountain View Power Partners II, LLC.

Filed Date: 10/23/2006.

Accession Number: 20061024-0175.

Comment Date: 5 p.m. Eastern Time on Monday, November 13, 2006.

Docket Numbers: ER07-59-000.

Applicants: Fortis Energy Marketing & Trading GP.

Description: Fortis Energy Marketing & Trading GP submits a notice of succession and a revised Electric Tariff, Original Volume No. 1.

Filed Date: 10/23/2006.

Accession Number: 20061024-0176.

Comment Date: 5 p.m. Eastern Time on Monday, November 13, 2006.

Docket Numbers: ER07-60-000.

Applicants: Western Massachusetts Electric Company.

Description: Western Massachusetts Electric Company submits Original Service Agreement IA-NU-06 under Schedule 22 of ISO New England Inc's Transmission, Markets and Services Tariff, FERC Electric Tariff 3.

Filed Date: 10/23/2006.

Accession Number: 20061024-0177.

Comment Date: 5 p.m. Eastern Time on Monday, November 13, 2006.

Take notice that the Commission received the following electric securities filings:

Docket Numbers: ES07-2r-000.

Applicants: Oklahoma Gas and Electric Company.

Description: Oklahoma Gas and Electric Company submits an application for authority to issue short-term debt securities in amounts not exceeding the aggregate $800,000,000 outstanding at any one time.

Filed Date: 10/13/2006.

Accession Number: 20061016-0114.

Comment Date: 5 p.m. Eastern Time on Friday, November 3, 2006.

Docket Numbers: ES07-4-000.

Applicants: Plains End II, LLC.

Description: Plains End II, LLC submits Application for authorization to Issue Debt Securities up to $220 million.

Filed Date: 10/20/2006.

Accession Number: 20061024-0171.

Comment Date: 5 p.m. Eastern Time on Monday, November 13, 2006.

Docket Numbers: ES07-5-000.

Applicants: Baltimore Gas & Electric Company.

Description: Baltimore Gas and Electric Co submits its 2005 Biennial Short-Term Borrowing Application.

Filed Date: 10/23/2006.

Accession Number: 20061024-0178.

Comment Date: 5 p.m. Eastern Time on Monday, November 13, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-18378 Filed 10-31-06; 8:45 am]

BILLING CODE 6717-01-P